NUCLEAR REGULATORY COMMISSION

[Docket No. 50-206]

Southern California Edison, San Onofre Nuclear Generating Station, Unit 1; Environmental Assessment and Finding of No Significant Impact

The U.S. Nuclear Regulatory Commission (NRC) is considering issuance of an exemption from certain requirements of 10 CFR part 73 for Facility Operating License No. DPR-13, issued to Southern California Edison, (the licensee), for the San Onofre Nuclear Generating Station, Unit 1, a permanently shutdown nuclear reactor facility located in San Diego County, California.

Environmental Assessment

Identification of Proposed Action

The proposed action would modify security requirements to eliminate certain equipment, to relocate certain equipment, to modify certain procedures, and reduce the number of armed responders, due to the permanently shutdown and defueled status of the San Onofre Nuclear Generating Station, Unit 1.

The proposed action is in accordance with the licensee's application for exemption dated April 28, 2000. The requested action would grant an exemption from certain requirements of 10 CFR 73.55, “Requirements for physical protection of licensed activities in nuclear power reactors against radiological sabotage,” specifically from 10 CFR 73.55(a), (c)(1), (c)(3), (c)(4), (c)(5), (c)(6), (c)(7), (d)(1), (e)(1), (e)(2), (h)(3) and (h)(6) as identified in the licensee's application for exemption dated April 28, 2000.

The Need for the Proposed Action

San Onofre Nuclear Generating Station Unit 1 was permanently shut down on November 20, 1992. The reactor was permanently defueled and the possession-only license became effective on March 9, 1993. In this permanently shutdown condition, the facility poses a reduced risk to public health and safety. Because of this reduced risk, certain requirements of 10 CFR 73.55 are no longer appropriate. An exemption is required from portions of 10 CFR 73.55 to allow the licensee to implement a revised security plan that is appropriate for the permanently shutdown and defueled reactor facility.

Environmental Impacts of the Proposed Action

The NRC has completed its evaluation of the proposed action and concludes that granting an exemption to those portions of 10 CFR 73.55 identified above would not have a significant impact on the environment. Unit 1 has not operated since November 1992. As demonstrated by the licensee in its exemption application, the consequences of any possible act of sabotage are thus reduced, due to the reduced amount of radioactive material available for possible release from the Unit 1 spent fuel pool.

The proposed action will not significantly increase the probability or consequences of accidents, no changes are being made in the types of any effluents that may be released off site, and there is no significant increase in occupational or public radiation exposure. Therefore, there are no significant radiological environmental impacts associated with the proposed action.

With regard to potential nonradiological impacts, the proposed action does not involve any historic sites. It does not affect nonradiological plant effluents and has no other environmental impact. Therefore, there are no significant nonradiological environmental impacts associated with the proposed action.

Accordingly, the NRC concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

This action does not involve the use of any resources not previously considered in the Final Environmental Statement for the San Onofre Nuclear Generating Station, Unit 1.

Agencies and Persons Contacted

In accordance with its stated policy, on May 31, 2000, the staff consulted with the State of California official, Mr. Steven Hsu of the Radiologic Health Services, State Department of Health Services, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated April 28, 2000 (Accession No. ML003709607), which is available for public inspection at the Commission's Public Document Room, The Gelman Building, 2120 L Street, NW., Washington, DC. Publicly available records will be accessible electronically from the ADAMS Public Library component on the NRC Web site, http://www.nrc.gov (the Electronic Reading Room).

Dated at Rockville, Maryland, this 3rd day of July 2000.
For the Nuclear Regulatory Commission.
David J. Wrona,
Project Manager, Decommissioning Section, Project Directorate IV & Decommissioning, Division of Licensing Project Management, Office of Nuclear Reactor Regulation.

[FR Doc. 00-17343 Filed 7-7-00; 8:45 am]

BILLING CODE 7590-01-P